DEPARTMENT OF TRANSPORTATION

Federal Railroad Administration

Petition for Waiver of Compliance

In accordance with part 211 of Title 49 Code of Federal Regulations (CFR), notice is hereby given that the Federal Railroad Administration (FRA) received a request for a waiver of compliance from certain requirements of its safety regulations. The individual petition is described below including, the party seeking relief, the regulatory provisions involved, the nature of the relief being requested, and the petitioner's arguments in favor of relief.

Minnesota Transportation Museum, Inc

[Docket Number FRA-2006-24774]

The Minnesota Transportation Museum (MTM) seeks a waiver of compliance from certain provisions of 49 CFR part 232, Brake System Safety Standards for Freight and Other Non-Passenger Trains and Equipment. Specifically, § 232 Appendix B, part 232, prior to May 31, 2001, § 232.17(b)(2) for passenger car maintenance requirements.

MTM is a non-profit corporation that operates a historical and excursion train as the Osceola and St. Croix Valley Railway between Dresser, Wisconsin and Withrow, Minnesota, a distance of 25 miles, over Canadian National track. Operation of this train is from mid-April to the end of October on Thursdays, Saturdays and Sundays, for a total of approximately 70 operating days. MTM currently operates one passenger coach equipped with LN type brakes that requires a clean, oil, test and stencil (COT&S) every 12 months, as prescribed in the Manual of Standards and Recommended Practices of the Association of American Railroads, S-045, last published in 1984. MTM is requesting that a waiver be granted to extend the COT&S time period from 12 months to 24 months. This would give MTM the ability to operate for two operating seasons between COT&S events, which would also provide a savings of $244 per year in COT&S costs for this non-profit organization.

MTM declares that safety will not be compromised if this waiver is granted, based on their 15+ years of experience with the LN type brake. MTM states that previous COT&S events have found the lubricant to be fresh with no detectable signs of deterioration. MTM also notes that since the LN brake was developed in the 1920's, there has been considerable improvement in lubricant quality and considerable improvement in all of the flexible gasket and “O” ring type materials that makes up the LN Brake.

Interested parties are invited to submit written comments to FRA. All written communications concerning this petition should identify the appropriate docket number (e.g., Docket Number FRA-2006-24774) and must be submitted in triplicate to the Associate Administrator for Safety, Federal Railroad Administration, 400 7th Street, SW., Washington, DC 20590-0001. Comments received within 45 days of the date of this notice will be considered by FRA before any final action is taken. Although FRA does not anticipate scheduling a public hearing in connection with these proceedings, if any interested party desires an opportunity for oral comment, they should notify FRA in writing before the end of the comment period and specify the basis for their request.

All written communications concerning these proceedings are available for examination during regular business hours (9 a.m.-5 p.m.) at the Central Docket Management Facility, Room PL-401 (Plaza Level), 400 7th Street, SW., Washington, DC, 20590. All documents in the public docket are also available for inspection and copying on the Internet at the docket facility's Web site http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) at http://dms.dot.gov.

Issued in Washington, DC, on June 9, 2006.
Grady C. Cothen, Jr.,
Deputy Associate Administrator for Safety Standards and Program Development.

[FR Doc. E6-9277 Filed 6-13-06; 8:45 am]

BILLING CODE 4910-06-P